DEPARTMENT OF DEFENSE

Office of the Secretary

[Transmittal No. 23-89]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-89, Policy Justification, and Sensitivity of Technology.

Dated: January 2, 2025.
Aaron T. Siegel,
Alternate OSD Federal Register Liaison Officer, Department of Defense.

BILLING CODE 6001-FR-P

BILLING CODE 6001-FR-C

Transmittal No. 23-89

Notice of Proposed Issuance of Letter of Offer Pursuant to Section 36(b)(1) of the Arms Export Control Act, as amended

(i) Prospective Purchaser: Government of the Netherlands

(ii) Total Estimated Value:

Major Defense Equipment * | $351 million
Other | $557 million
TOTAL | $908 million

(iii) Description and Quantity or Quantities of Articles or Services under Consideration for Purchase:

Major Defense Equipment (MDE):

One hundred twenty (120) AGM-158B/B-2 Joint Air-to-Surface Standoff Missiles with Extended Range (JASSM-ER) All-Up-Rounds

Fifteen (15) AGM-158 Inert JASSMs with Test Instrumentation Kits

Two (2) AGM-158 JASSM Separation Test Vehicles

One (1) AGM-158 Instrumented Test Vehicle

Two (2) JASSM Jettison Test Vehicles

Non-MDE:

Also included are AGM-158 JASSM Dummy Air Training Missiles (DATM) and containers; KGV-135A encryption devices; test and integration equipment and support; spare parts, consumables, accessories, and repair and return support; munitions support and support equipment; classified and unclassified publications and technical documentation; Contractor Logistics Support (CLS); transportation support; personnel training and training equipment; studies and surveys; U.S. Government and contractor engineering, technical, and logistics support services; and other related elements of logistics and program support.

(iv) Military Department: Air Force (NE-D-YAI)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: February 5, 2024

*as defined in Section 47(6) of the Arms Export Control Act.

POLICY JUSTIFICATION

The Netherlands—Joint Air-to-Surface Standoff Missiles with Extended Range

The Government of the Netherlands has requested to buy one hundred twenty (120) AGM-158B/B-2 Joint Air-to-Surface Standoff Missiles with Extended Range (JASSM-ER) All-Up-Rounds; fifteen (15) AGM-158 Inert JASSMs with Test Instrumentation Kits; two (2) AGM-158 JASSM Separation Test Vehicles; one (1) AGM-158 Instrumented Test Vehicle; and two (2) JASSM Jettison Test Vehicles. Also included are AGM-158 JASSM Dummy Air Training Missiles (DATM) and containers; KGV-135A encryption devices; test and integration equipment and support; spare parts, consumables, accessories, and repair and return support; munitions support and support equipment; classified and unclassified publications and technical documentation; Contractor Logistics Support (CLS); transportation support; personnel training and training equipment; studies and surveys; U.S. Government and contractor engineering, technical, and logistics support services; and other related elements of logistics and program support. The estimated total cost is $908 million.

This proposed sale will support the foreign policy goals and national security objectives of the United States by improving the security of a NATO Ally that is a force for political stability and economic progress in Europe.

The proposed sale will improve the Netherlands' capability to meet current and future threats by increasing its airborne, long-range, precision-strike combat capability. The Netherlands will use these systems to defend NATO Allies and deter aggression. The Netherlands will have no difficulty absorbing these articles and services into its armed forces.

The proposed sale of this equipment and support will not alter the basic military balance in the region.

The principal contractor will be Lockheed Martin Missiles and Fire Control, Orlando, FL. The purchaser typically requests offsets. Any offset agreement will be defined in negotiations between the purchaser and the contractor.

Implementation of this proposed sale will not require the assignment of any additional U.S. Government or contractor representatives to the Netherlands.

There will be no adverse impact on U.S. defense readiness as a result of this proposed sale.

Transmittal No. 23-89

Notice of Proposed Issuance of Letter of Offer Pursuant to Section 36(b)(1) of the Arms Export Control Act

Annex

Item No. vii

(vii) Sensitivity of Technology:

1. The AGM-158B Joint Air-to-Surface Standoff Missile with Extended Range (JASSM-ER) All Up Round is a low-observable, highly-survivable, subsonic cruise missile designed to penetrate next-generation air defense systems enroute to target. The JASSM-ER is designed to kill hard, medium-hardened, soft, and area type targets. The extended range over the baseline was obtained by going from a turbo jet to a turbo-fan engine and by reconfiguring the fuel tanks for added capacity.

The AGM-158B-2 system capabilities include all the capabilities of the AGM-158B. The AGM-158B-2 configuration will have different internal components to address multiple obsolescence issues as well as subcomponent updates to position for M-Code and other potential upgrades.

2. The KGV-135A is a high-speed, general purpose encryptor/decryptor module used for wide-band data encryption.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that the Netherlands can provide substantially the same degree of protection for the sensitive technology being released as the U.S. Government. This sale is necessary in furtherance of the U.S. foreign policy and national security objectives outlined in the Policy Justification.

6. All defense articles and services listed in this transmittal have been authorized for release and export to the Netherlands.

[FR Doc. 2025-00140 Filed 1-7-25; 8:45 am]

BILLING CODE 6001-FR-P